LIBRARY OF CONGRESS

Copyright Office

37 CFR Part 201

[Docket No. RM 99-7B]

Exemption to Prohibition on Circumvention of Copyright Protection Systems for Access Control Technologies

AGENCY: Copyright Office, Library of Congress.

ACTION: Extension of deadline for reply comment period; notice of public hearings; and deadline for post-hearing comments.

SUMMARY: The Copyright Office of the Library of Congress announces public hearings on the possible exemptions to the prohibition against circumvention of technological measures that control access to copyrighted works. The Office also announces the extension of the deadline for the submission of reply comments and announces the deadlines for submission of post-hearing comments. The hearings and comments relate to a rulemaking proceeding conducted in accordance with 17 U.S.C. 1201(a)(1), which was added by the Digital Millennium Copyright Act, and which will determine whether there are “classes of works” as to which users are, or are likely to be, adversely affected in their ability to make noninfringing uses if they are prohibited from circumventing such technological measures.

DATES: The deadline for reply comments is extended to 5:00 p.m. E.S.T. on Friday, March 31, 2000. Public hearings will be held in Washington, DC on May 2-4, 2000 and in Stanford, CA, on May 18—19, 2000. Requests to testify must be received in the Office of the General Counsel of the Copyright Office by 5:00 p.m. E.S.T. on April 14, 2000. Post-hearing written submissions must be received no later than 5:00 p.m. E.S.T. on June 23, 2000. See SUPPLEMENTARY INFORMATION for additional information and other requirements.

ADDRESSES: The first round of public hearings will be held at the Library of Congress in Room LA-202 of the John Adams Building, 110 Second Street, S.E., Washington, DC. The second round of public hearings will be held at Stanford University in Room 290, Stanford Law School, Crown Quadrangle, Stanford, CA. See SUPPLEMENTARY INFORMATION for additional address information and other requirements.

FOR FURTHER INFORMATION CONTACT: Robert Kasunic, Senior Attorney, Office of the General Counsel, or Charlotte Douglass, Principal Legal Advisor, Office of the General Counsel, Copyright GC/I&R, PO Box 70400, Southwest Station, Washington, DC 20024. Telephone: (202) 707-8380; fax: (202) 707-8366. E-mail inquiries regarding the hearings may be sent to rkas@loc.gov.

SUPPLEMENTARY INFORMATION: On November 24, 1999, the Copyright Office published a Notice of Inquiry seeking comments in connection with a rulemaking pursuant to 17 U.S.C. 1201(a)(1), which provides that the Librarian of Congress may exempt certain classes of works from the prohibition against circumventing a technological measure that controls access to a copyrighted work. 64 FR 66139 (November 24, 1999). For a more complete statement of the background and purpose of the rulemaking, please see the Notice of Inquiry which is also available on the Copyright Office's website at: http://www.loc.gov/copyright/1201/anticirc.html.

Subsection 1201(a)(1)(A) provides, inter alia, that “No person shall circumvent a technological measure that effectively controls access to a work protected under this title.” Subparagraph (B) limits this prohibition. It provides that the prohibition against circumvention of technological measures “shall not apply to persons who are users of a copyrighted work which is in a particular class of works, if such persons are, or are likely to be in the succeeding 3-year period, adversely affected by virtue of such prohibition in their ability to make noninfringing uses of that particular class of works under this title” as determined in this rulemaking. This prohibition on circumvention becomes effective on October 28, 2000, two years after the date of enactment.

During the 2-year period between the enactment and effective date of the provision, the Librarian of Congress must make the determination as to classes of works exempted from the prohibition. This determination will be made upon the recommendation of the Register of Copyrights in a rulemaking proceeding. The determination thus made will remain in effect during the succeeding three years.

In response to the Notice of Inquiry, the Office received 235 written comments that conformed to the requirements set forth in the Notice of Inquiry, as modified. The comments have been posted on the Office's website; see http://lcweb.loc.gov/copyright/1201/comments.

The Copyright Office has received a request from Time-Warner Inc. to extend the deadline for submission of reply comments. Given the unexpectedly high volume of initial comments submitted and in order to accommodate the needs of all interested parties, the Copyright Office is extending the deadline for submissions of reply comments. Reply comments must be received in the Office of the General Counsel no later than 5:00 p.m. E.S.T. on March 31, 2000. For addresses and acceptable formats for reply comments, please see the section below entitled “Format and submission of reply comments and post-hearing comments.”

The purpose of reply comments is to respond to points made in initial comments submitted in this proceeding, and not to raise new issues for the first time.

Public hearings: The Office will be conducting public hearings in Washington, DC on Tuesday, May 2, 2000, Wednesday, May 3, 2000, and Thursday, May 4, 2000 from 9:30 a.m. to 6:00 p.m. Public hearings will also be held in Stanford, CA on Thursday, May 18, 2000 and Friday, May 19, 2000 from 9:30 a.m. to 6:00 p.m. Interested parties are invited to submit requests to testify at one of these hearings.

Requirements for persons desiring to testify: A request to testify must be submitted to the Copyright Office. All requests to testify must include:

• The name of the person desiring to testify;

• The organization or organizations represented by that person, if any;

• Contact information (address, telephone, and e-mail);

• The location and date of the hearing at which the requestor wishes to testify; and

• A one page summary of the intended testimony.

This request may be sent by mail, by fax, or by hand-delivery. Requests by telephone or electronic mail will not be accepted. The Copyright Office will notify all persons wishing to testify of the date and expected time of their appearance, and the maximum time allowed for their testimony.

Addresses for requests to testify: If delivered by mail: requests to testify should be addressed to Robert Kasunic, Senior Attorney, Copyright GC/I&R, PO Box 70400, Southwest Station, Washington, DC 20024.

If sent by fax: requests to testify should be addressed to Robert Kasunic at (202) 707-8366.

If delivered by hand: requests to testify should be delivered to Robert Kasunic, the Office of the General Counsel, Copyright Office, Library of Congress, LM-403, James Madison Memorial Building, 101 Independence Avenue, S.E., Washington DC.

All requests to testify must be received by 5:00 E.S.T. on April 14, 2000.

Time limits on testimony at public hearings: There will be time limits on the testimony allowed for speakers. In the initial comment period, the Office received 235 written comments. Given the time constraints, only a fraction of that number could possibly testify at the hearings. The time limits will depend on the number of persons wishing to testify. Approximately one week prior to the hearings, the Office will notify all persons submitting requests to testify of the precise time limits that will be imposed on oral testimony. Due to the time constraints, the Copyright Office encourages parties with similar interests to select a single spokesperson to testify.

Post-hearing comments: At the conclusion of the public hearings, the Copyright Office will accept post-hearing written comments that relate specifically to matters addressed at the hearings or identified in the reply comments. This post-hearing comment period is not intended to be an opportunity for interested parties to reiterate points they have already made or to raise new issues. Post-hearing comments must be received in the Office of the General Counsel no later than 5:00 p.m. E.S.T. on June 23, 2000.

Format and submission of reply comments and post-hearing comments: The Copyright Office prefers to receive reply and post-hearing comments submitted in electronic format (by attachment to electronic mail or by delivery of 3.5-inch diskettes). While the Office prefers electronic submissions, reply and post-hearing comments in paper format will also be accepted. The applicable requirements for each form of submission are specified below:

1. If by electronic mail: Send to “1201@loc.gov” a message containing the name of the person making the submission, his or her title and organization (if the submission is on behalf of an organization), mailing address, telephone number, fax number (if any), and e-mail address. The subject heading of the message should also identify the document clearly as a reply or post-hearing comment. The document itself must be sent as a MIME attachment, and must be in a single file in either: (1) Adobe Portable Document File (PDF) format (preferred); (2) Microsoft Word Version 7.0 or earlier; (3) WordPerfect 7 or earlier; (4) ASCII text file format; or (5) Rich Text File (RTF) format. At a minimum, the comment must contain the name of the person submitting the comment.

2. If by regular mail or hand delivery: Send, to the appropriate address listed above, two copies of the comment, each on a 3.5-inch write-protected diskette, labeled with the name of the person making the submission and, if applicable, his or her title and organization. The document must be clearly identified as a reply or post-hearing comment. Either the document itself or a cover letter must also include the name of the person making the submission, his or her title and organization (if the submission is on behalf of an organization), mailing address, telephone number, fax number (if any), and e-mail address (if any). The document itself must be in a single file in either (1) Adobe Portable Document File (PDF) format (preferred); (2) Microsoft Word Version 7.0 or earlier; (3) WordPerfect Version 7 or earlier; (4) ASCII text file format; or (5) Rich Text File (RTF) format. At a minimum, the comment must contain the name of the person submitting the comment.

3. If in print only: Anyone who is unable to submit a comment in electronic form should submit an original and fifteen paper copies by hand or by mail to the appropriate address listed above. The reply or post-hearing comment should contain the name of the person making the submission, his or her title and organization (if the submission is on behalf of an organization), mailing address, telephone number, fax number (if any), and e-mail address (if any). At a minimum, the comment must contain the name of the person making the submission.

Dated: March 14, 2000.
David O. Carson,
General Counsel.

[FR Doc. 00-6711 Filed 3-16-00; 8:45 am]

BILLING CODE 1410-30-P